DEPARTMENT OF COMMERCE

National Oceanic and Atmospheric Administration

[I.D. 110503A]

Vessel Monitoring Systems; Approved Mobile Transmitting Units for use in the Fisheries off the West Coast States and in the Western Pacific; Pacific Coast Groundfish Fishery

AGENCY: National Marine Fisheries Service (NMFS), National Oceanic and Atmospheric Administration (NOAA), Commerce.

ACTION: Notification of approval of VMS systems.

SUMMARY: This document provides notice of vessel monitoring systems (VMS) approval by NOAA for use by vessels participating in the Pacific Coast groundfish fishery and sets forth relevant features of the VMS.

ADDRESSES: To obtain copies of the list of NOAA approved VMS mobile transmitting units and NOAA approved VMS communications service providers, or information regarding the status of VMS systems being evaluated by NOAA for approval, write to NOAA Fisheries Office for Law Enforcement (OLE), 8484 Georgia Avenue, Suite 415, Silver Spring, MD 20910.

To submit a completed and signed checklist, mail or fax it to NOAA Enforcement, 7600 Sand Point Way NE; Seattle, WA 98115; fax (206)526-6528.

For more addresses regarding approved VMS, see the SUPPLEMENTARY INFORMATION section, under the heading “VMS Provider Addresses”.

FOR FURTHER INFORMATION CONTACT: For current listing information contact Mark Oswell, Outreach Specialist, phone 301-427-2300, fax 301-427-2055. For questions regarding VMS installation, activation checklists, and status of evaluations, contact Jonathan Pinkerton, National VMS Program Manager, phone 301-427-2300, fax 301-427-2055. For questions regarding the checklist, contact Joe Albert, Northwest Divisional VMS Program Manager, phone 206-526-6133.

The public may acquire this notice, installation checklist, and relevant updates via the “fax-back” service, or by contacting Joe Albert, Northwest Divisional VMS Program Manager, Northwest Division, phone (206) 526-6133.

SUPPLEMENTARY INFORMATION:

I. VMS Mobile Transceiver Units

A. INMARSAT-C Transceivers

The Inmarsat-C satellite communications VMS transmitting units that meet the minimum technical requirements for the Pacific Coast groundfish fishery are the Thrane & Thrane Fishery “Capsat” (part number TT-3022D-NMFS) and the Thrane & Thrane Fishery “Mini-C” (part number TT-3026-NMFS). The address for the Thrane & Thrane distributor (LandSea Systems) dealer contact is provided under the heading VMS Provider Addresses.

Thrane & Thrane TT-3022D-NMFS Features: The transceiver consists of an integrated GPS/Inmarsat-C unit in the wheelhouse and an antenna mounted atop the vessel. The unit is factory pre-configured for NMFS VMS operations (non-Global Maritime Distress & Safety System (non-GMDSS)). Satellite commissioning services are provided by LandSea Systems personnel.

Automatic GPS position reporting starts after transceiver nstallation and power activation onboard the vessel. The unit is a car-radio-sized transceiver using a floating 10 to 32 VDC power supply. The unit is configured for automatic reduced position transmissions when the vessel is stationary (i.e., in port). It allows for port stays without power drain or power shut down. The unit restarts normal position transmission automatically when the vessel goes to sea.

The outside antenna, model TT-3005M, is a compact omni-directional Inmarsat-C/GPS antenna, providing operation down to +/-15 deg. angles.

A configuration option is available to automatically send position reports to a private address, such as a fleet management company. Another available option is the ability to send and receive private e-mail and other messages with the purchase and installation of an input device such as a laptop, personal computer, or message display terminal.

Thrane & Thrane TT-3026-NMFS features: The transceiver consists of an integrated GPS/Inmarsat-C unit mounted atop the vessel. The unit is factory pre-configured for NMFS VMS operations (non-Global Maritime Distress & Safety System (non-GMDSS)). Satellite commissioning services are provided by LandSea Systems personnel.

Automatic GPS position reporting starts after transceiver installation and power activation onboard the vessel. The unit is an integrated transceiver/antenna/GPS design using a floating 10 to 32 VDC power supply. The unit is configured for automatic reduced position transmissions when the vessel is stationary (i.e., in port). It allows for port stays without power drain or power shut down. The unit restarts normal position transmission automatically when the vessel goes to sea.

The TT-3026-NMFS provides operation down to +/-15 degree angles. Although the unit has the capability of two-way communication to send and receive private e-mail and other messages; it can only use this capability when additional equipment not required by NMFS is purchased (i.e., a laptop, personal computer, or message display terminal). A configuration option is available to automatically send position reports to a private address, such as a fleet management company.

A vessel owner wishing to purchase either of these systems may contact the entity identified under the heading VMS Provider Addresses for Thrane & Thrane TT-3022D-NMFS and TT-3026-NMFS. The owner should identify himself or herself as a vessel owner in the “Pacific Coast groundfish fishery.” The Thrane & Thrane transceiver set the vessel owner purchases will be configured for the Pacific Coast groundfish fishery.

To use the TT-3022-NMFS or the TT-3026-NMFS, the vessel owner will need to establish an Inmarsat-C system use contract with an approved Inmarsat-C communications service provider. The owner will be required to complete the Inmarsat-C “Registration for Service Activation for Maritime Mobile Earth Station.” The owner should consult with LandSea Systems when completing this form.

LandSea Systems personnel will perform the following before shipment: (a) configure the transceiver according to OLE specifications for the Pacific Coast groundfish fishery; (b) download the predetermined NMFS position reporting and broadcast command identification numbers into the unit; (c) test the unit to ensure operation when installation has been completed on the vessel; and (d) forward the Inmarsat service provider and the transceiver identifying information to OLE.

B. INMARSAT D+ Transceivers

The Inmarsat-D+ satellite communications VMS transmitting unit that meets the minimum technical requirements for the Pacific Coast groundfish fishery is the Satamatics SAT-101 (model number SAT-101 NMFS/PCG). The address for the Satamatics contact is provided under the heading VMS Provider Addresses.

Satamatics-101 NMFS/PCG Features: The transceiver is part of a bundled service provided by Satamatics that includes the transceiver and the satellite airtime. The transceiver is delivered as a complete kit including main unit, antenna, antenna mount, cabling, power connector and detailed installation manual. The main unit is an integrated GPS receiver and Inmarsat-D+ transmitter receiver measuring 4.375in. x 6.75in. x 1.5 in. For the VMS environment, it is enclosed in a secure ruggedized outer box so that it can be mounted inside the superstructure or hull of the vessel or externally in any location sheltered from “green seas.” Prime power to the unit is a floating 9.6 to 30 Vdc. The main unit includes a back up, re-chargeable battery. The antenna is small and lightweight measuring 4.375in. diameter and 1.5 in. high and weighing 0.5 lbs. The transceiver is factory pre-configured for NMFS VMS requirements for each fishery for “plug and play” installation and operation requiring no specialized training or expertise.

Automatic GPS position reporting can start immediately after transceiver installation and power activation onboard the vessel. The unit is configured for automatic reduced position transmissions when the vessel is stationary (i.e., in port). It allows for port stays without power drain or power shut down. The unit restarts normal position transmission automatically when the vessel goes to sea.

Satamatics provides a one-stop shop for easy purchase and commissioning of transceiver and satellite airtime. A vessel owner wishing to purchase the model number SAT 101- NMFS/PCG can purchase a bundled package of transceiver and satellite airtime directly from Satamatics using a self-serve web site or by contacting Satamatics as listed in the VMS Provider Addresses.

Satellite commissioning service is instantaneous via a self-service web page or through Satamatics Support anytime after the receipt of the transceiver. This eliminates delays and paperwork. Satamatics will forward the transceiver identifying information to OLE. Although the VMS package has been designed for an easy, low cost self-install, Satamatics provides a support web site and contact line for fishermen.

C. ORBCOMM Transceivers

The ORBCOMM satellite communications VMS transmitting units that meet the minimum technical requirements for the Pacific Coast groundfish fishery is the Stellar ST2500G (part number ST2500G-NMFS). The address for ORBCOMM and Stellar Value Added Resellers (VAR) and their regional sales outlets around the country are provided under the heading VMS Provider Addresses.

Stellar ST2500G-NMFS Features: The transceiver consists of an integrated GPS/ORBCOMM Satellite Communicator mounted in the wheelhouse and antennas mounted atop the vessel. The unit is pre-configured and tested for NMFS VMS operations (with an emergency alarm switch (non-GMDSS)). Satellite commissioning services are provided by several VMS providers.

Automatic GPS position reporting starts after transceiver installation and power activation onboard the vessel. The unit is a 4 in x 8in x 2in transceiver powered by any 12 to 32 VDC power supply. It is factory configured for automatic reduced position transmissions when the vessel is stationary (i.e., in port) which allows for port stays without power drain or unit shut down. The unit restarts normal position transmission automatically when the vessel goes to sea.

The ST2500G has an omni-directional VHF antenna, providing operation from +/-5 degrees above the horizon anywhere on earth.

A configuration option is available to automatically send position reports to a private e-mail address or to a secure web site where the data is provided on a map and in tabular form. Another available option is the ability to send and receive private e-mail from a PC or Laptop personal computer or from specific hand held devices. A complete list of devices, supported operating systems and available software solutions are described by each VMS provider.

A vessel owner wishing to purchase the Stellar ST2500G transceiver will be required to complete an ORBCOMM “Provisioning” form via the web. If assistance is required, the owner may consult with the VAR or one of the entities identified under the heading VMS Provider Addresses for the ST2500G-NMFS when completing this form. The unit purchased by the vessel owner will be configured specifically for the Pacific Coast groundfish fishery.

The ORBCOMM VMS VAR will perform the following before shipment: (a) configure the transceiver according to OLE specifications for the Pacific Coast groundfish fishery; (b) download the predetermined NMFS position reporting applications into the unit; (c) test the unit to ensure proper operation prior to shipping; (d) forward the service provider and the transceiver identifying information to OLE and test the unit when the installation has been completed on the vessel.

II. Communications Service Providers

OLE has approved the below-listed communications service providers: Orbcomm, Satamatics, Telenor, and Xantic satellite communications services for the Pacific Coast groundfish fishery.

A. Orbcomm

It is recommended that the vessel owner keep for his or her records and that the VAR have on record the following identifying information: (a) signed and dated receipts and contracts; (b) satellite communicator identification number; (c) VAR customer number, (Identification number/unit surname name combination); (d) e-mail address of satellite communicator (surname@ORBCOMM.net); (e) owner name; (f) vessel name; and (g) vessel documentation or registration number.

Pursuant to 50 CFR 635.69(d), OLE will provide an installation and activation checklist which the vessel owner must follow. The vessel owner must sign a statement on the checklist certifying compliance with the installation procedures and return the checklist to OLE. Installation can be performed by experienced crew, a VAR or by an electronics specialist. All installation costs are paid by the owner.

The owner may confirm the Stellar ST2500G-NMFS operation and communications service to ensure that position reports are automatically sent to and received by OLE before leaving on a fishing trip under VMS. OLE does not regard the fishing vessel as meeting the requirements of 50 CFR 635.69 until position reports are automatically received. For confirmation purposes, contact the NOAA Enforcement, 7600 Sand Point Way NE; Seattle, WA 98115, at (206) 526-6133.

ESL Sat-Ex Satellite Services/ORBCOMM

ORBCOMM is a store-and-forward data messaging service allowing users to send and receive information virtually anywhere in the world, on land, at sea, and in the air. ORBCOMM supports a wide variety of applications including Plain Text Internet e-mail, position and weather reporting, and remote equipment monitoring and control. Mariners can use ORBCOMM free of charge to send critical safety at sea messages as part of the U.S. Coast Guard's Automated Mutual-Assistance Vessel Rescue system. VMS Services are being sold through specific ORBCOMM VARS.

Features offered: Customer Service supports the security and privacy of vessel accounts and messages with the following: (a) password authentication for vessel owners or agents and for OLE to prevent unauthorized changes or inquiries; and (b) separation of private messages from OLE messages. (OLE requires VMS-related position reports, only.)

Billing is separated between accounts for the vessel owner and OLE. VMS position reports and vessel-initiated messaging are paid for by the vessel owner. Messaging initiated from OLE operations center is paid for by OLE.

ORBCOMM provides customer service through its VARS to establish and support two-way transmission of transceiver unit configuration commands between the transceiver and land-based control center. This supports OLE's message needs and, optionally, fishermen's private e-mail needs.

The owner should refer to and follow the configuration, installation, and service activation procedures for the Stellar ST2500G-NMFS satellite communicator.

B. Satamatics/INMARSAT-D+

Satamatics provides tracking and monitoring solutions globally using Inmarsat-D+. Satamatics is able to provide end to end bundled services using a combination of its satellite gateways that it designed, built, owns and maintains and its own D+ transceiver line that it designed and manufactures. The marine solution certified for NMFS VMS is similar to that being used in other VMS applications around the world and in the Secure Ship Alert System recently mandated by the International Maritime Organization to combat security threats.

Satamatics provides a one-stop shop for service and transceiver for easy purchase and commissioning. Vessel owners wishing to use the Satamatics solution to meet the Pacific Coast groundfish fishery VMS requirement can purchase a bundled package of transceiver and airtime directly from Satamatics using a self-serve web site or contacting Satamatics as listed in the VMS Provider Addresses.

Satellite commissioning service is instantaneous via a self-service web page or through Satamatics Support anytime after the receipt of the transceiver. This eliminates delays and paperwork. Satamatics will forward the transceiver identifying information to OLE. Although the VMS service package has been designed for easy commissioning via the web, Satamatics provides a support line for fishermen as well.

Billing for satellite airtime is separated between accounts for the vessel owner and OLE. VMS position reports and vessel-initiated messaging are paid for by the vessel owner. Messaging initiated from OLE operations center is paid for by NOAA.

C. INMARSAT-C Communications Providers

It is recommended that the vessel owner keep for his or her records and that Telenor and Xantic have on record the following identifying information: (a) Signed and dated receipts and contracts; (b) transceiver serial number; (c) Telenor or Xantic customer number, user name and password; (d) e-mail address of transceiver; (e) Inmarsat identification number; (f) owner name; (g) vessel name; (h) vessel documentation or registration number; and (i) mobile earth station license (FCC license).

Pursuant to 50 CFR 635.69(d), OLE will provide an installation and activation checklist which the vessel owner must follow. The vessel owner must sign a statement on the checklist certifying compliance with the installation procedures and return the checklist to OLE. Installation can be performed by experienced crew or by an electronics specialist, and the installation cost is paid by the owner.

The owner may confirm the TT-3022-NMFS or TT-3026-NMFS operation and communications service to ensure that position reports are automatically sent to and received by OLE before leaving on a fishing trip under VMS. OLE does not regard the fishing vessel as meeting the requirements of 50 CFR 635.69 until position reports are automatically received. For confirmation purposes, contact the NOAA Fisheries Office for Law Enforcement, 7600 Sand Point Way NE; Seattle, WA 98115, at (206) 526-6133.

C1. Telenor Satellite Services

Inmarsat-C is a store-and-forward data messaging service. Inmarsat C allows users to send and receive information virtually anywhere in the world, on land, at sea, and in the air. Inmarsat-C supports a wide variety of applications including Internet e-mail, position and weather reporting, a free daily news service, and remote equipment monitoring and control. Mariners can use Inmarsat-C free of charge to send critical safety at sea messages as part of the U.S. Coast Guard's Automated Mutual-Assistance Vessel Rescue system and of the NOAA Shipboard Environmental Acquisition System programs. Telenor Vessel Monitoring System Services is being sold through LandSea Systems, Inc. For the LandSea and Telenor addresses, look under the heading “VMS Provider Addresses”.

C2. Xantic

Xantic is a provider Vessel Monitoring Services to the fishing industry. By installing an approved OLE Imarsat-C transceiver on the vessel, fishermen can send and receive E-mail, to and from land, transceiver automatically sends vessel position reports to OLE, and is fully compliant with the International Coast Guard Search and Rescue Centers. XANTIC Vessel Monitoring System Services are being sold through LandSea Systems, Inc. For the LandSea and XANTIC addresses, look under the heading VMS Provider Addresses.

Telenor and XANTIC Features offered through LandSea Systems: Customer Service supports the security and privacy of vessel accounts and messages with the following: (a) password authentication for vessel owners or agents and for OLE to prevent unauthorized changes or inquiries; and (b) separation of private messages from OLE messages. (OLE requires VMS-related position reports, only.)

Billing is separated between accounts for the vessel owner and the OLE. VMS position reports and vessel-initiated messaging are paid for by the vessel owner. Messaging initiated from OLE operations center is paid for by NOAA.

LandSea Systems provides customer service for Telenor and XANTIC users to support and establish two-way transmission of transceiver unit configuration commands between the transceiver and land-based control centers. This supports OLE's message needs and, optionally, fishermen's private message needs.

The vessel owner can configure automatic position reports to be sent to a private address, such as to a fleet management company. The vessel can send and receive private e-mail and other messages when the transceiver has such an input device as a laptop or personal computer attached.

Vessel owners wishing to use Telenor or XANTIC services will need to purchase an Inmarsat-C transceiver approved for the fishery. The owner will need to complete an Inmarsat-C system use contract with Telenor or XANTIC, including a mobile earth station license (FCC requirement). The transceiver will need to be commissioned with Inmarsat according to Telenor or XANTIC's instructions. The owner should refer to and follow the configuration, installation, and service activation procedures for the specific transceiver purchased.

III. VMS Provider Addresses

For ORBCOMM and Stellar ST2500G-NMFS information, contact: ORBCOMM, LLC; 21700 Atlantic Boulevard; Dulles, VA 20166 USA. www.ORBCOMM.com for Vessel Management on the home page.

Call 800-ORBCOMM (USA); Phone: 703-433-6300; Fax: 703-433-6400 Satamatics/INMARSAT D+ bundled VMS solution of satellite airtime and SAT-101 NMFS/PCG transceiver: go to www.nmfs.satamaticsusa.com; call 877-SAT-MATD (877-728-6383) fax 360-246 7263 e-mail nmfs@satamaticsusa.com. Thrane & Thrane TT-3022-NMFS or TT-3026-NMFS, contact Ken Ravenna, Marine Products, LandSea Systems, Inc.,509 Viking Drive, Suite K, L & M, Virginia Beach, VA 23452; voice: 757-463-9557; fax: 757-463-9581, e-mail: KCR@LandSeaSystems.com; website: http://www.landseasystems.com.

For Telenor or XANTIC information, contact LandSea Systems Inc., Donna Sherman, 509 Viking Drive, Suite K, L, M, Virginia Beach, VA 23452; voice: 757-463-9557; fax: 757-463-9581; e-mail: irtime@landseasystems.com. Telenor and XANTIC Customer Service, LandSea Systems, Inc., 509 Viking Drive Suite, K, L & M, Virginia Beach, VA 23452; voice: 757-463-9557; fax: 757-463-9581, e-mail: KCR@LandSeaSystems.com. Telenor Alternate Contact: Courtney Coleman, Manager COMSAT-C Services Marketing, 6560 Rock Spring Dr., Bethesda, MD 20817; phone: 301-838-7720; e-mail: courtney.coleman@telenor-usa.com. Xantic Alternate contacts: Folef Hooft Graafland, 6100 Hollywood Boulevard, Suite 410, Hollywood, FL 33024; voice: (954) 962-9908 Ext. 11; fax: (954) 962-1164; Cellular:(954) 214-2609; e-mail: folef.hooftgraafland@XANTIC.net; Andre Cortese, 1211 Connecticut Ave., NW, Suite 504, Washington, DC 20036; telephone number: 202-785-5615; e-mail: andre.cortese@XANTIC.net; Bobbie Thach, 1211 Connecticut Ave, NW Suite 504, Washington, DC 20036; voice: (202) 785-5614; fax: (202) 785-5616; e-mail: bobbie.thach@XANTIC.net.

IV. Additional Information

OLE is constantly evaluating new and emerging technologies for inclusion in the VMS program. Additional units may be approved for use in the Pacific Coast groundfish fishery at a later date.

Authority: 16 U.S.C. 1801, et seq.

Dated: November 12, 2003.
Bruce C. Morehead,
Acting Director, Office of Sustainable Fisheries, National Marine Fisheries Service.

[FR Doc. 03-28663 Filed 11-14-03; 8:45 am]

BILLING CODE 3510-22-S